NUCLEAR REGULATORY COMMISSION

Interim Staff Guidance; Probabilistic Risk Assessment Information To Support Design Certification and Combined License Applications; Solicitation of Public Comment

AGENCY: Nuclear Regulatory Commission (NRC).

ACTION: Solicitation of public comment.

SUMMARY: The NRC is soliciting public comment on its Proposed Interim Staff Guidance COL/DC-ISG-003. This interim staff guidance (ISG) supplements the guidance provided to the staff in Section 19.0, “Probabilistic Risk Assessment and Severe Accident Evaluation for New Reactors,” of NUREG-0800, “Standard Review Plan for the Review of Safety Analysis Reports for Nuclear Power Plants” (SRP), concerning the review of probabilistic risk assessment (PRA) information and severe accident assessment submitted to support design certification (DC) and combined license (COL) applications. Upon receiving public comments, the NRC staff will evaluate and disposition the comments, as appropriate. Once the NRC staff completes the COL/DC-ISG, it will issue the same for NRC and industry use. The NRC staff will also incorporate the approved COL/DC-ISG-003 into the next revision of the SRP and related guidance documents.

DATES: Comments must be filed no later than 30 days from the date of publication of this notice in the Federal Register. Comments received after this date will be considered, if it is practical to do so, but the Commission is able to ensure consideration only for comments received on or before this date.

ADDRESSES: Comments may be submitted to: Chief, Rulemaking, Directives, and Editing Branch, Division of Administrative Services, Office of Administration, U.S. Nuclear Regulatory Commission, Washington, DC, 20555-0001.

Comments should be delivered to: 11545 Rockville Pike, Rockville, Maryland, Room T-6D59, between 7:30 a.m. and 4:15 p.m. on Federal workdays. Persons may also provide comments via e-mail to Lynn Mrowca at lxm4@nrc.gov. The NRC maintains an Agencywide Documents Access and Management System (ADAMS), which provides text and image files of NRC's public documents. These documents may be accessed through the NRC's Public Electronic Reading Room on the Internet at http://www.nrc.gov/reading-rm/adams.html. Persons who do not have access to ADAMS or who encounter problems in accessing the documents located in ADAMS should contact the NRC Public Document Room (PDR) reference staff at 1-800-397-4209, 301-415-4737, or by e-mail at pdr@nrc.gov.

FOR FURTHER INFORMATION CONTACT: Ms. Lynn Mrowca, Chief, PRA Licensing, Operations Support & Maintenance Branch 1, Division of Safety Systems and Risk Assessment, Office of the New Reactors, U.S. Nuclear Regulatory Commission, Washington, DC, 20555-0001; telephone 301-415-0525 or e-mail at lxm4@nrc.gov.

SUPPLEMENTARY INFORMATION: The agency also posts its issued staff guidance in the agency external Web page (http://www.nrc.gov/reading-rm/doc-collections/isg/).

The NRC staff is issuing this notice to solicit public comments on the proposed COL/DC-ISG-003. After the NRC staff considers any public comments, it will make a determination regarding the proposed COL/DC-ISG-003.

Dated at Rockville, Maryland, this 12th day of February 2008.
For the Nuclear Regulatory Commission.
William D. Reckley,
Branch Chief, Rulemaking, Guidance and Advanced Reactors Branch, Division of New Reactor Licensing, Office of New Reactors.

[FR Doc. E8-3095 Filed 2-19-08; 8:45 am]

BILLING CODE 7590-01-P